Proclamation 9004 of August 23, 2013

50th Anniversary of the March on Washington for Jobs and Freedom

By the President of the United States of America

A Proclamation

On August 28, 1963, hundreds of thousands converged on the National Mall to take part in what the Reverend Dr. Martin Luther King, Jr., called “the greatest demonstration for freedom in the history of our nation.” Demonstrators filled the landscape—from the steps of the Lincoln Memorial, alongside the still waters of the reflecting pool, to the proud base of the Washington Monument. They were men and women; young and old; black, white, Latino, Asian, and Native American—woven together like a great American tapestry, sharing in the dream that our Nation would one day make real the promise of liberty, equality, and justice for all.

The March on Washington capped off a summer of discontent, a time when the clarion call for civil rights was met with imprisonment, bomb threats, and base brutality. Many of the marchers had endured the smack of a billy club or the blast of a fire hose. Yet they chose to respond with nonviolent resistance, with a fierce dignity that stirred our Nation's conscience and paved the way for two major victories of the Civil Rights Movement—the Civil Rights Act of 1964 and the Voting Rights Act of 1965.

Today, we remember that the March on Washington was a demonstration for jobs as well as freedom. The coalition that brought about civil rights understood that racial equality and fairness for workers are bound together; when one American gets a raw deal, it jeopardizes justice for everyone. These are lessons we carry forward—that we cannot march alone, that America flourishes best when we acknowledge our common humanity, that our future is linked to the destiny of every soul on earth.

It is not enough to reflect with pride on the victories of the Civil Rights Movement. In honor of every man, woman, and child who left footprints on the National Mall, we must make progress in our time. Let us guard against prejudice—whether at the polls or in the workplace, whether on our streets or in our hearts—and let us pledge that, in the words of Dr. King, “we will not be satisfied until justice rolls down like waters and righteousness like a mighty stream.”

NOW, THEREFORE, I, BARACK OBAMA, President of the United States of America, by virtue of the authority vested in me by the Constitution and the laws of the United States, do hereby proclaim August 28, 2013, as the 50th Anniversary of the March on Washington for Jobs and Freedom. I call upon all Americans to observe this day with appropriate programs, ceremonies, and activities that celebrate the March on Washington and advance the great causes of jobs and freedom.

IN WITNESS WHEREOF, I have hereunto set my hand this twenty-third day of August, in the year of our Lord two thousand thirteen, and of the Independence of the United States of America the two hundred and thirty-eighth.

[FR Doc. 2013-21189

Filed 8-27-13; 11:15 am]

Billing code 3295-F3